U.S.-CHINA ECONOMIC AND SECURITY REVIEW COMMISSION

Notice of Open Public Hearing

AGENCY: U.S.-China Economic and Security Review Commission

ACTION: Notice of open public hearing

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on September 4, 2019 on “U.S.-China Relations in 2019: A Year in Review.”

DATES: The hearing is scheduled for Wednesday, September 4, 2019 at 9:30 a.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale Reagan, 444 North Capitol Street NW, Suite 602, Washington DC 20001; telephone: 202-624-1496, or via email at lreagan@uscc.gov. Reservations are not required to attend the hearing.

SUPPLEMENTARY INFORMATION:

Background

This is the eighth public hearing the Commission will hold during its 2019 report cycle. The hearing will review key developments in the U.S.-China relationship in 2019. Panel 1 will evaluate developments in China's political economy and the impact of U.S.-China trade frictions on the Chinese economy. Panel 2 will assess the implications of Chinese military activities and modernization in 2019 for the United States and U.S. allies and partners. Panel 3 will review the implications of economic, political, and security developments between China and Taiwan for regional security, and explore the escalating situation in Hong Kong. The hearing will be co-chaired by Vice Chairman Robin Cleveland and Commissioner Jeffrey Fiedler. Any interested party may file a written statement by September 4, 2019 by mailing to the contact above. A portion of each panel will include a question and answer period between the Commissioners and the witnesses.

Authority

Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: August 9, 2019.
Daniel W. Peck,
Executive Director, U.S.-China Economic and Security Review Commission.

[FR Doc. 2019-17475 Filed 8-13-19; 8:45 am]

BILLING CODE 1137-00-P